DEPARTMENT OF COMMERCE

National Oceanic and Atmospheric Administration

RIN 0648-XE662

Marine Fisheries Advisory Committee

AGENCY: National Marine Fisheries Service (NMFS), National Oceanic and Atmospheric Administration (NOAA), Commerce.

ACTION: Notice; request for nominations.

SUMMARY: Nominations are being sought for appointment to a new task force of the Marine Fisheries Advisory Committee (MAFAC) to support its advisory work for the Secretary of Commerce on living marine resource matters. The task force will focus on providing information and advice on the establishment of long-term goals for salmon and steelhead in the Columbia River Basin. National Marine Fisheries Service (NMFS) will appoint the members in consultation with MAFAC and they will serve for a term of up to two (2) years. The terms would begin in December 2016.

DATES: Nominations must be postmarked or have an email date stamp on or before September 6, 2016.

ADDRESSES: Nominations should be sent to Katherine Cheney, NMFS West Coast Region, 1201 Northeast Lloyd Boulevard, Suite 1100, Portland, OR 97232 or to katherine.cheney@noaa.gov.

FOR FURTHER INFORMATION CONTACT: Katherine Cheney, (503) 231-6730; email: katherine.cheney@noaa.gov.

SUPPLEMENTARY INFORMATION: MAFAC is the only Federal advisory committee with the responsibility to advise the Secretary of Commerce (Secretary) on all matters concerning living marine resources that are the responsibility of the Department of Commerce. MAFAC is establishing a Columbia Basin Partnership Task Force to assist it in the development of long-term goals for salmon and steelhead in the Columbia River Basin, which is critical to the mission and goals of the NMFS.

Columbia Basin Partnership Task Force

This Columbia Basin Partnership Task Force is being created for state, tribal and stakeholder input to MAFAC to support development of quantitative goals for Columbia River Basin salmon and steelhead at the species, stock, major population group (MPG), and population levels. The goals will be collaboratively developed to meet conservation needs while also providing harvest (including those necessary to satisfy tribal treaty rights). Shared goals will enhance engagement and understanding by providing a concise, common definition of success, consistent means to measure progress, and improved public support for work across the Columbia River Basin.

The scope of the Columbia Basin Partnership Task Force will fall within the objectives and scope of the MAFAC; is more comprehensive than any prior goal-setting effort in the Basin; and will encompass:

• All Endangered Species Act-listed and non-listed salmon and steelhead in the Columbia Basin, above and below Bonneville Dam.

• Ocean, mainstem, and tributary fisheries that harvest Columbia Basin stocks, including commercial, recreational, and tribal fisheries.

• Multiple geographic scales (Basin-wide, species, and major population group).

• All impacts across the salmon and steelhead life-cycle (e.g., habitat, hatchery, hydro, and harvest).

• Consideration of ecological conditions and of current and future habitat capacity.

The Task Force will report to MAFAC and will not provide advice or work product directly to NMFS. Recommendations generated by this Task Force's efforts will not result in any regulatory decision, obligate any party to undertake certain activities, or diminish treaty/trust obligations. The input of the Task Force will support efforts that seek common solutions that work for all sovereigns and stakeholders. The strength of the Task Force will hinge on the breadth of regional participation, collaboration, and commitment.

This Task Force will consist of 25-35 individuals who have demonstrated subject matter expertise regarding salmon and steelhead biology and management in the Columbia River Basin, as well as the interest and ability to work collaboratively and respectfully with other sovereigns and stakeholders to find solutions. Individuals should represent the geographic diversity of the Columbia River Basin, as well as the diversity of interests including state and tribal fish managers; NGO/environmental interests; commercial fishing interests; recreational fishing interests; utility interests; river industry interests; agricultural/irrigation interests; and local watershed or recovery planning interests. At least one member of MAFAC will serve as a member of the Task Force.

It is intended that the Task Force be established for an initial period of two (2) years with a possibility of extending that term if deemed necessary by NMFS and MAFAC. Task Force members should be able to fulfill the time commitments required for quarterly meetings (mostly by webinar or teleconference and potentially in-person). Members of the Task Force are not compensated for their services, but will upon request be allowed to travel and per diem expenses as authorized by 5 U.S.C. 5701 et seq.

Nomination Materials

Each nomination submission must include: resume or curriculum vitae of the nominee and a cover letter, not to exceed 3 pages, that describes the nominee's qualifications and interest in serving on the Task Force and how the nominee meets the following criteria:

• Is able to broadly represent his or her interests and constituency that he/she affiliates with as they are affected by salmon and steelhead management in the Columbia River Basin.

• Has organizational and/or subject matter expertise regarding salmon and steelhead management in the Columbia River Basin.

• Has demonstrated a willingness and ability to work collaboratively and respectfully with other stakeholders to find solutions.

• Contributes to representation of the geographic diversity of the Columbia River Basin.

Self-nominations are acceptable. The following contact information should accompany each nominee's submission: full name, address, telephone number, fax number, and email address. Nominations should be sent to (see ADDRESSES) and must be received by September 6, 2016. Information about MAFAC, its Committee Charter, current membership, and activities can be viewed on the NMFS' Web page at www.nmfs.noaa.gov/mafac.htm.

Dated: July 19, 2016.
Jennifer Lukens,
Director, Office of Policy, National Marine Fisheries Service.

[FR Doc. 2016-17398 Filed 7-21-16; 8:45 am]

BILLING CODE 3510-22-P